DEPARTMENT OF COMMERCE

Foreign-Trade Zones Board

[B-31-2025]

Foreign-Trade Zone 49; Application for Expansion of Subzone 49E; Phillips 66 Company; Linden, New Jersey

An application has been submitted to the Foreign-Trade Zones (FTZ) Board by the Port Authority of NY and NJ, grantee of FTZ 49, requesting an expansion of Subzone 49E on behalf of Phillips 66 Company. The application was submitted pursuant to the provisions of the Foreign-Trade Zones Act, as amended (19 U.S.C. 81a-81u), and the regulations of the FTZ Board (15 CFR part 400). It was formally docketed on June 16, 2025.

The applicant is requesting authority to expand the subzone to include a new site (Site 2) located at 4601 Tremley Point Road, Linden, New Jersey (117 acres). This request to expand the subzone would not result in an expansion of the company's existing production authority or on the company's pending request for additional production authority that is being processed under 15 CFR 400.37 (Doc. B-11-2025).

In accordance with the FTZ Board's regulations, Juanita Chen of the FTZ Staff is designated examiner to review the application and make recommendations to the FTZ Board.

Public comment is invited from interested parties. Submissions shall be addressed to the FTZ Board's Executive Secretary and sent to: ftz@trade.gov. The closing period for their receipt is July 28, 2025. Rebuttal comments in response to material submitted during the foregoing period may be submitted through August 12, 2025.

A copy of the application will be available for public inspection in the “Online FTZ Information Section” section of the FTZ Board's website, which is accessible via www.trade.gov/ftz.

For further information, contact Juanita Chen at juanita.chen@trade.gov.

Dated: June 16, 2025.
Elizabeth Whiteman,
Executive Secretary.

[FR Doc. 2025-11240 Filed 6-17-25; 8:45 am]

BILLING CODE 3510-DS-P